DEPARTMENT OF ENERGY

Environmental Management Site-Specific Advisory Board, Paducah

AGENCY: Office of Environmental Management, Department of Energy.

ACTION: Notice of open meeting: correction.

SUMMARY: On April 24, 2023, the Department of Energy published a notice of open meeting announcing a meeting on May 18, 2023, of the Environmental Management Site-Specific Advisory Board, Paducah, in the April 24, 2023 Federal Register. This document makes a correction to that notice.

FOR FURTHER INFORMATION CONTACT: Eric Roberts, Board Support Manager, by Phone: (270) 554-3004 or Email: eric@pgdpcab.org.

Corrections

In the Federal Register of April 24, 2023, in FR Doc. 2023-08520, on page 24785, please make the following corrections:

In that notice under DATES, third column, second paragraph, the meeting date has been changed. The original date was May 18, 2023. The new date is May 25, 2023.

In that notice under ADDRESSES, third column, third paragraph, the meeting room has been changed. The original address and meeting room was West Kentucky Community and Technical College, Emerging Technology Center, Room 109, 5100 Alben Barkley Drive, Paducah, Kentucky 42001. The new meeting room is Room 216.

The reason for the corrections is a scheduling conflict with the original meeting date.

Signed in Washington, DC, on April 26, 2023.
LaTanya Butler,
Deputy Committee Management Officer.

[FR Doc. 2023-09122 Filed 4-28-23; 8:45 am]

BILLING CODE 6450-01-P